ENVIRONMENTAL PROTECTION AGENCY

40 CFR Part 180

[EPA-HQ-OPP-2023-0069; FRL-10579-10-OCSPP]

Receipt of a Pesticide Petition Filed for Residues of Pesticide Chemicals in or on Various Commodities (October 2023)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before December 21, 2023.

ADDRESSES: Submit your comments, identified by docket identification (ID) number EPA-HQ-OPP-2023-0069, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Registration Division (RD) (7505T), main telephone number: (202) 566-2427, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Notice of Filing—Amended Tolerance Exemptions for Inerts (Except PIPS)

PP IN-11780. (EPA-HQ-OPP-2023-0429). Mandava Associates, LLC (1050 Connecticut Ave. NW, Suite 500, Washington, DC 20036), on behalf of Contact Organics USA Inc., (4947 US 75 Avenue, Maurice, IA 51036), requests to amend an exemption from the requirement of a tolerance for residues of limonene (CAS Reg. No. 138-86-3) by adding its use as an inert ingredient (solvent) limited to 3% in pesticide formulations under 40 CFR 180.910. The petitioner believes no analytical method is needed because it is not required for an exemption from the requirement of a tolerance. Contact: RD.

B. Notice of Filing—New Tolerance Exemptions for Non-Inerts (Except PIPS)

PP IN-11778. (EPA-HQ-OPP-2023-0514). Micro Powders, Inc., 580 White Plains Road, Tarrytown, NY 10591, requests to establish an exemption from the requirement of a tolerance for residues of rice bran wax (CAS Reg. No. 8016-60-2) when used as a pesticide inert ingredient (lubricant) in pesticide formulations under 40 CFR 180.910, 180.930, and 180.940. The petitioner believes no analytical method is needed because it is not required for an exemption from the requirement of a tolerance. Contact: RD.

C. Notice of Filing—New Tolerances for Non-Inerts

1. PP 0F8842. EPA-HQ-OPP-2020-0533. Meiji Seika Pharma Co., Ltd, c/o Landis International, Inc., 3185 Madison Highway, P.O. Box 5126, Valdosta, GA 31603-5126, requests to establish a tolerance in 40 CFR part 180 for residues of the herbicide, L-glufosinate Free Acid, in or on apple at 0.05 parts per million (ppm); beet, sugar, molasses at 5.0 ppm; beet, sugar, roots at 0.9 ppm; beet, sugar, tops (leaves) at 1.5 ppm; bushberry subgroup 13B at 0.15 ppm; canola, meal at 1.1 ppm; canola, seed at 0.40 ppm; cattle, fat at 0.40 ppm; cattle, meal at 0.15 ppm; cattle, meat byproducts at 6.0 ppm; corn, field, forage at 4.0 ppm; corn, field, grain at 0.20 ppm; corn, field, stover at 6.0 ppm; corn, sweet, forage at 1.5 ppm; corn, sweet, kernels plus cob with husks removed at 0.30 ppm; corn, sweet, stover at 6.0 ppm; cotton, gin byproducts at 15 ppm; cotton, undelinted seed at 4.0 ppm; egg at 0.15 ppm; fruit, citrus, crop group 10-10 at .15 ppm; fruit, pome, crop group 11-10 at .25 ppm; fruit, stone, crop group 12-12 at 0.30 ppm; goat, fat at 0.40 ppm; goat, meat at 0.15 ppm; goat, meat byproducts at 6.0 ppm; grape at 0.05 ppm; hog, fat at 0.40 ppm; hog, meat at 0.15 ppm; hog, meat byproducts at 6.0 ppm; horse, fat at 0.40 ppm; horse, meat at 0.15 ppm; horse, meat byproducts at 6.0 ppm; milk at 0.15 ppm; nut, tree, crop group 14-12 at 0.50 ppm; olive at 0.50 ppm; potato at 0.80 ppm; potato, chips at 1.6 ppm; potato, granules/flakes at 2.0 ppm; poultry, fat at 0.15 ppm; poultry, meat at .15 ppm; poultry, meat byproducts at 0.60 ppm; sheep, fat at 0.40 ppm; sheep, meat at 0.15 ppm; sheep, meat byproducts at 6.0 ppm; soybean at 2.0 ppm; soybean, hulls at 10.0 ppm. The analytical methods HRAV-5A and BK/01/99 are used to measure and evaluate the chemical L-glufosinate free acid. Contact: RD.

2. PP 2F9042. EPA-HQ-OPP-2023-0459. UPL NA Inc., 630 Freedom Business Center, Suite 402, King of Prussia, PA 19406, requests to establish a tolerance in 40 CFR part 180 for residues of the herbicide, L-Glufosinate Ammonium, in or on almond, hulls at 0.25 parts per million (ppm); beet, sugar, molasses at 2.5 ppm; beet, sugar, roots at 0.45 ppm; bushberry subgroup 13b at 0.075 ppm; canola, meal at 0.55 ppm; canola, seed at 0.2 ppm; cattle, fat at 0.2 ppm; cattle, meat at 0.075 ppm; cattle, meat byproducts at 3 ppm; corn, field forage at 2 ppm; corn, field, grain at 0.1 ppm; corn, field, stover at 3 ppm; corn, sweet, forage at 0.75 ppm; corn, sweet, kernels plus cob with husks removed at 0.15 ppm; corn, sweet, stover at 3 ppm; cotton, gin byproducts at 15 ppm; cotton, undelinted seed at 7.5 ppm; egg at 0.075 ppm; citrus fruit (crop group 10-10) at 0.075 ppm; pome fruit (crop group 11-10) at 0.125 ppm; stone fruit (crop group 12-12) at 0.15 ppm; goat, fat at 0.2 ppm; goat, meat at 0.075 ppm; goat, meat byproducts at 3 ppm; grain aspirated fractions at 12.5 ppm; grape at 0.025 ppm; hog, fat at 0.2 ppm; hog, meat at 0.075 ppm; hog, meat byproducts at 3 ppm; horse, fat at 0.2 ppm; horse, meat at 0.075 ppm; horse, meat byproducts at 3 ppm; milk at 0.075 ppm; tree nut (crop group 14-12) at 0.25 ppm; olive at 0.25 ppm; potato at 0.4 ppm; potato, chips at 0.8 ppm; potato granules/flakes at 1ppm; poultry, fat at 0.075 ppm; poultry, meat at 0.075 ppm; poultry, meat byproducts at 0.3 ppm; sheep, fat at 0.2 ppm; sheep, meat at 0.075 ppm; sheep, meat byproducts at 3 ppm; soybean at 1 ppm; soybean, hulls at 5 ppm and inadvertent or indirect uses on Barley, hay at 0.2 ppm; barley, straw at 0.2 ppm; buckwheat, fodder at 0.2 ppm; buckwheat, forage at 0.2 ppm; oat, forage at 0.2 ppm; oat, hay at 0.2 ppm; oat, straw at 0.2 ppm; rye, forage at 0.2 ppm; rye, straw at 0.2 ppm; teosinte at 0.2 ppm; triticale at 0.2 ppm; wheat, forage at 0.2 ppm; wheat, hay at 0.2 ppm; wheat, straw at 0.2 ppm. The analytical method uses liquid chromatograph-tandem mass spectrometer (LC-MS/MS) is used to measure and evaluate the chemical L-glufosinate ammonium. Contact: RD.

3. PP 3E9058. EPA-HQ-OPP-2023-0399. UPL Delaware, Inc. (UPL), 630 Freedom Business Center, Suite 402 King of Prussia, PA 19406, requests to establish an import tolerance in 40 CFR part 180 for residues of the fungicide, kasugamycin, in or on tea, dried at 3 ppm. The analytical method uses LC-MS/MS method is used to measure and evaluate the chemical kasugamycin. Contact: RD.

Authority: 21 U.S.C. 346a.

Dated: November 13, 2023.
Delores Barber,
Director, Information Technology and Resources Management Division, Office of Program Support.

[FR Doc. 2023-25751 Filed 11-20-23; 8:45 am]

BILLING CODE 6560-50-P